ENVIRONMENTAL PROTECTION AGENCY

[ER-FRL-9052-9]

Environmental Impact Statements; Notice of Availability

Responsible Agency: Office of Federal Activities, General Information 202-564-5632 or https://www.epa.gov/nepa.

Weekly receipt of Environmental Impact Statements (EIS)

Filed September 4, 2020 10 a.m. EST Through September 14, 2020 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20200181, Draft, USACE, WA, Chehalis River Basin Flood Damage Reduction Project, Comment Period Ends: 11/17/2020, Contact: Brandon Clinton 206-316-3164.

EIS No. 20200182, Final, USFS, AZ, Fossil Creek Wild and Scenic River Comprehensive River Management Plan, Review Period Ends: 11/02/2020, Contact: Mike Dechter 928-527-3416.

EIS No. 20200183, Final, BR, CA, Friant-Kern Canal Middle Reach Capacity Correction Project Final Environmental Impact Statement/Environmental Impact Report, Review Period Ends: 10/19/2020, Contact: Rain Emerson 559-262-0335.

EIS No. 20200184, Final Supplement, USN, WA, Northwest Training and Testing Activities Final Supplemental Environmental Impact Statement/Overseas Environmental Impact Statement, Review Period Ends: 10/19/2020, Contact: Jacqueline Queen 360-257-3852.

EIS No. 20200185, Final, USFS, ID, Hungry Ridge Restoration Project, Review Period Ends: 10/19/2020, Contact: Jennie Fischer 208-983-4048.

EIS No. 20200186, Final, NPS, CA, Point Reyes National Seashore General Management Plan Amendment, Review Period Ends: 10/19/2020, Contact: Carey Feierabend 415-464-5101.

EIS No. 20200187, Draft, NPS, NC, Cape Hatteras National Seashore Sediment Management Framework Draft Environmental Impact Statement, Comment Period Ends: 11/02/2020, Contact: David Hallac 252-475-9032.

Amended Notice

EIS No. 20200161, Draft Supplement, BR, CA, Shasta Lake Water Resources Investigation, Comment Period Ends: 10/05/2020, Contact: David Brick 916-202-7158.

Revision to FR Notice Published 8/7/2020; Extending the Comment Period from 9/21/2020 to 10/5/2020.

Dated: September 14, 2020.
Cindy S. Barger,
Director, NEPA Compliance Division, Office of Federal Activities.

[FR Doc. 2020-20608 Filed 9-17-20; 8:45 am]

BILLING CODE 6560-50-P